DEPARTMENT OF HEALTH AND HUMAN SERVCES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed project or to obtain a copy of the information collection plans, call the SAMHSA Reports Clearance Officer on (240) 276-1243.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project—Performance Monitoring for Partnerships for Success (PFS)—NEW

The Substance Abuse and Mental Health Services Administration (SAMHSA)'s Center for Substance Abuse Prevention (CSAP) aims to address two of SAMHSA's top substance abuse prevention priorities: Underage drinking (UAD; age 12 to 20) and prescription drug misuse and abuse (PDM; age 12 to 25) through the Strategic Prevention Framework Partnerships For Success (SPF-PFS) program. The program is scheduled through September 2018 to systematically collect and maintain community sub-recipient information, quarterly progress reports (QPR) and outcomes data submitted by the PFS grantees through the online Program for Evaluation in Prevention Contract (PEP-C) Management Reporting Tool (MRT). This data collection will place a new emphasis on the SPF-PFS impact on outcomes related to Prescription Drug Misuse, including the prevalence of prescription drug misuse and related consequences such as prescription drug poisonings and overdoses. SAMHSA is requesting approval for data collection through the PEP-C MRT using the instruments listed below:

• Contact Information: This instrument includes sections for Grantee Information, Grantee Staff, Sub-State Information, Community Subrecipient information, and Subrecipient Staff.

• QPR: This instrument will gather data related to implementation of the SPF-PFS grant based on the SPF steps (Assessment, Capacity, Planning, Implementation, and Evaluation).

• Outcome Data: This instrument includes 4 separate sub-instruments that grantees will complete in varying time frames dependent on requirements.

a. Grantee Target Outcome Data

b. PFS Selected Grantee-Level Outcome Data

c. Community-Level Outcome Data for Subrecipients

d. Substitute Data Source Request

These SPF-PFS performance monitoring measures will primarily be tools for SAMHSA project officers to systematically collect data to monitor grant program performance and outcomes along with grantee technical assistance needs. In addition to assessing activities related to and progress through the SPF steps, the performance monitoring instruments covered in this statement collect data to assess the following grantee required specific performance measures:

• Number of training and technical assistance activities per funded community provided by the grantee to support communities;

• Reach of training and technical assistance activities (numbers served) provided by the grantee;

• Percentage of subrecipient communities that submit data to the grantee data system.

The instruments also collect data to provide information for the following PFS required Government Performance and Results Act (GPRA) measure:

• Number of sub-recipient communities that improved on one or more targeted NOMs indicators (Outcome).

Annualized Data Collection Burden
Instrument | Number of respondents | Responses per respondent | Total number of responses | Burden hours per response | Total burden hours
Contact Information | 69 | 1 | 69 | 1 | 69
Quarterly Progress Report | 69 | 4 | 276 | 3 | 828
Grantee Target Outcome Data | 11 | 1 | 11 | 1 | 11
Selected Grantee-Level Outcome Data | 9 | 1 | 9 | 1 | 9
Community Level Outcome Data | 58 | 1 | 58 | 3 | 175
Substitute Data Source Request | 15 | 1 | 15 | 1 | 15
Total | 69 |  | 438 |  | 1,107

Send comments to Summer King, SAMHSA Reports Clearance Officer, Room 2-1057, One Choke Cherry Road, Rockville, MD 20857 or email her a copy at summer.king@samhsa.hhs.gov. Written comments should be received by November 30, 2015.

Summer King,
Statistician.

[FR Doc. 2015-24812 Filed 9-29-15; 8:45 am]

BILLING CODE 4162-20-P